NATIONAL AERONAUTICS AND SPACE ADMINISTRATION

[Notice: (17-035)]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995.

DATES: All comments should be submitted within 60 calendar days from the date of this publication.

ADDRESSES: Interested persons are invited to submit written comments regarding the proposed information collection to the National Aeronautics and Space Administration, 300 E Street SW., Washington, DC. Attention: Frances Teel, NASA Clearance Officer.

FOR FURTHER INFORMATION CONTACT: Requests for additional information or copies of the information collection instrument(s) and instructions should be directed to Frances Teel, NASA Clearance Officer, NASA Headquarters, 300 E Street SW., JF0000, Washington, DC 20546, (202) 358-2225.

SUPPLEMENTARY INFORMATION:

I. Abstract

NASA is proposing construction of a Low Boom Flight Demonstration (LBFD) experimental aircraft, aka X-plane.

This information collection will enable NASA to pre-test methods to collect information from individuals to determine community response to the new, quieter sonic booms, prior to the start of flight testing the X-plane. No public exposure to any form of sonic boom will occur during the pre-testing phase.

The pre-test will be conducted by telephone interview. NASA wants to evaluate telephone surveys to assess prompt public response associated with experiencing low amplitude sonic booms over multiple, geographically dispersed communities. Responses will be voluntary.

The new X-plane is designed to produce low amplitude sonic booms. Ultimately, flight testing of the X-plane is intended to (1) demonstrate and validate the technology necessary for civil supersonic flights that create low amplitude sonic booms, and (2) assess community response to the new, quieter, sonic booms.

II. Method of Collection

Telephone.

III. Data

Title: Pilot Testing of Telephone Interviewing Approaches to Assess Community Response to New, Quieter Boom Experiences.

OMB Number: 2700-XXXX.

Type of review: New information collection.

Affected Public: Individuals.

Estimated Number of Respondents: 5,000.

Estimated Time per Response: 3 minutes.

Estimated Total Annual Burden Hours: 250.

Estimated Total Annual Cost to Respondents: $0.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Frances Teel,
NASA PRA Clearance Officer.

[FR Doc. 2017-12000 Filed 6-8-17; 8:45 am]

BILLING CODE 7510-13-P